COMMITTEE FOR THE IMPLEMENTATIONS OF TEXTILE AGREEMENTS

Establishment of Import Limits for Certain Cotton, Wool and Man-Made Fiber Textiles and Textile Products Produced or Manufactured in the Socialist Republic of Vietnam

May 12, 2003.

AGENCY: Committee for the Implementation of Textile Agreements (CITA).

Action: Issuing a directive to the Commissioner, Bureau of Customs and Border Protection establishing limits

EFFECTIVE DATE: May 16, 2003.

FOR FURTHER INFORMATION CONTACT: Ross Arnold, International Trade Specialist, Office of Textiles and Apparel, U.S. Department of Commerce (202) 482-4212. For information on the quota status of these limits, refer to the Quota Status Reports posted on the bulletin boards of each Customs port, call (202) 927-5850, or refer to the Bureau of Customs and Border Protection website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

Consultations on textiles were held with the Government of the Socialist Republic of Vietnam February 20-21 and April 9-18, 2003. On April 25, 2003, representatives of the United States and Vietnam initialed a bilateral textile agreement; this agreement will enter into force upon translation and signature. Pending translation and signature, and in order to carry out the WTO Agreement on Textiles and Clothing, the attached directive to the Commissioner of Customs and Border Protection imposes limits consistent with those provided for in the initialed bilateral textile agreement. These limits apply to goods exported on or after May 1, 2003.

These limits may be revised if Vietnam becomes a member of the World Trade Organization (WTO) and the United States applies the WTO agreement to Vietnam.

A description of the textile and apparel categories in terms of HTS numbers is available in the CORRELATION: Textile and Apparel Categories with the Harmonized Tariff Schedule of the United States (see Federal Register notice 68 FR 1599, published on January 13, 2003).

James C. Leonard III,
Chairman, Committee for the Implementation of Textile Agreements.

Committee for the Implementation of Textile Agreements

May 12, 2003.

Commissioner,

Bureau of Customs and Border Protection, Washington, DC 20229.

Dear Commissioner: Pursuant to section 204 of the Agricultural Act of 1956, as amended (7 U.S.C. 1854); and Executive Order 11651 of March 3, 1972, as amended, you are directed to prohibit, effective on May 16, 2003, entry into the United States for consumption and withdrawal from warehouse for consumption of cotton, wool and man-made fiber textiles and textile products in the following categories, produced or manufactured in Vietnam and exported during the eight period beginning on May 1, 2003 and extending through December 31, 2003 in excess of the following levels of restraint:

Category | Restraint limit
200 | 200,000 kilograms.
301 | 453,333 kilograms.
332 | 666,667 dozen pairs.
333 | 24,000 dozen.
334/335 | 450,000 dozen.
338/339 | 9,333,333 dozen.
340/640 | 1,333,333 dozen.
341/641 | 508,465 dozen.
342/642 | 369,789 dozen.
345 | 200,000 dozen.
347/348 | 4,666,667 dozen.
351/651 | 321,333 dozen.
352/652 | 1,233,333 dozen.
359-C/659-C ¹ | 216,667 kilograms.
359-S/659-S ² | 350,000 kilograms.
434 | 10,800 dozen.
435 | 26,667 dozen.
440 | 1,667 dozen.
447 | 34,667 dozen.
448 | 21,333 dozen.
620 | 4,242,667 square meters.
632 | 333,333 dozen pairs.
638/639 | 847,333 dozen.
645/646 | 133,333 dozen.
647/648 | 1,315,545 dozen.
¹ Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010; Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
² Category 359-S: only HTS numbers 6112.39.0010, 6112.49.0010, 6211.11.8010, 6211.11.8020, 6211.12.8010 and 6211.12.8020; Category 659-S: only HTS numbers 6112.31.0010, 6112.31.0020, 6112.41.0010, 6112.41.0020, 6112.41.0030, 6112.41.0040, 6211.11.1010, 6211.11.1020, 6211.12.1010 and 6211.12.1020.

Textile products in the above categories exported to the United States prior to May 1, 2003 shall not be subject to this directive.

Textile products in the above categories which have been released from the custody of the Bureau of Customs and Border Protection under the provisions of 19 U.S.C. 1448(b) or 1484(a)(1) prior to the effective date of this directive shall not be denied entry under this directive.

These limits may be revised if Vietnam becomes a member of the World Trade Organization (WTO) and the United States applies the WTO agreement to Vietnam.

In carrying out the above directions, the Commissioner of Customs and Border Protection should construe entry into the United States for consumption to include entry for consumption into the Commonwealth of Puerto Rico.

The Committee for the Implementation of Textile Agreements has determined that these actions fall within the foreign affairs exception of the rulemaking provisions of 5 U.S.C. 553(a)(1).

Sincerely,

James C. Leonard III,

Chairman, Committee for the Implementation of Textile Agreements.

[FR Doc. 03-12314 Filed 5-15-03; 8:45 am]

BILLING CODE 3510-DR-S